DEPARTMENT OF COMMERCE

National Oceanic and Atmospheric Administration

[I.D. 090502A ]

Endangered Species; File No. 1389

AGENCY: National Marine Fisheries Service (NMFS), National Oceanic and Atmospheric Administration (NOAA), Commerce.

ACTION: Issuance of permit.

SUMMARY: Notice is hereby given that Dr. Stephen J. Morreale, Department of Natural Resources, Cornell University, Ithaca, NY 14853 has been issued a permit to take loggerhead, Kemp's ridley, green and leatherback sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Northeast Region, NMFS, One Blackburn Drive, Gloucester, MA 01930-2298; phone (978)281-9388; fax (978)281-9371.

FOR FURTHER INFORMATION CONTACT: Lillian Becker or Ruth Johnson, (301)713-2289.

SUPPLEMENTARY INFORMATION: On July 12, 2002, notice was published in the Federal Register(67 FR 46178) that a request for a scientific research permit to take loggerhead, Kemp's ridley, green and leatherback sea turtles had been submitted by the above-named individual. The requested permit has been issued under the authority of the Endangered Species Act of 1973, as amended (ESA; 16 U.S.C. 1531 et seq.) and the regulations governing the taking, importing, and exporting of endangered and threatened species (50 CFR parts 222-226).

The purpose of the research, as stated in the application, is to re-institute a long-term mark- recapture study in order to monitor the population levels and health status of sea turtles inhabiting the Long Island Sound and Peconic Bay Estuaries. Because these protected coastal waters are extremely important foraging areas for juvenile sea turtles, the establishment of a new research program will provide an ideal opportunity to gauge the trends and status of populations of sea turtles, and also to assess the health of the turtles and their critical ecosystems. This will be done by capturing sea turtles in pound nets then measuring, weighing, tagging, sampling blood and skin, and releasing them.

Issuance of this permit, as required by the ESA, was based on a finding that such permit (1) was applied for in good faith, (2) will not operate to the disadvantage of the endangered species which is the subject of this permit, and (3) is consistent with the purposes and policies set forth in section 2 of the ESA.

Dated: September 20, 2002.
Eugene T. Nitta,
Acting Chief, Permits, Conservation and Education Division, Office of Protected Resources, National Marine Fisheries Service.

[FR Doc. 02-24517 Filed 9-26-02; 8:45 am]

BILLING CODE 3510-22-S